Proclamation 7293 of April 14, 2000

National Park Week, 2000

By the President of the United States of America

A Proclamation

We are fortunate to live in an era when the explosive growth of technology has put at our fingertips an extraordinary array of information. But even during this technological revolution, one of America's richest and most fascinating educational resources is also among its oldest: our national park system. Our national parks are living libraries and laboratories, where all Americans can experience the beauty and variety of nature and learn about our Nation's history and culture.

Preserving the rare and unusual as well as the spectacular and beautiful, our national parks provide botanists, wildlife biologists, chemists, and other scientists the opportunity to conduct research into the fragile ecosystems that affect the health of people, plants, and animals around the world. Geologists and paleontologists find in our national parks the story of our continent, from the Grand Canyon's geologic formations to the ancient bones resting at Dinosaur National Monument.

The national park system also captures America's more recent history. In the National Historic Sites and along the National Historic Trails maintained by the men and women of the National Park Service, we learn about the lives and achievements of American heroes like Lewis and Clark, Sojourner Truth, Abraham Lincoln, Frederick Douglass, Elizabeth Cady Stanton, the Wright Brothers, and Thomas Edison. From Fort Necessity in Pennsylvania, where a young George Washington saw action in the French and Indian War, to the quiet acres of Gettysburg, where one of the Civil War's bloodiest battles was fought, to the Edmund Pettus Bridge in Selma, Alabama, where the modern civil rights movement reached its emotional peak 35 years ago, Americans can see and touch their history.

Today, we have 379 national parks, and each site offers a unique opportunity to experience the wonder of nature, to stand in the footprints of history, to learn about our culture and our society, to study the natural world, and to look toward the future. As we observe National Park Week, I join all Americans in thanking the men and women of the National Park Service for their dedication in caring for these special places. We are indebted to them for preserving and protecting our natural and cultural heritage, not only for our enjoyment and education today, but also for the benefit of generations to come.

NOW, THEREFORE, I, WILLIAM J. CLINTON, President of the United States of America, by virtue of the authority vested in me by the Constitution and laws of the United States, do hereby proclaim April 17 through April 23, 2000, as National Park Week.

IN WITNESS WHEREOF, I have hereunto set my hand this fourteenth day of April, in the year of our Lord two thousand, and of the Independence of the United States of America the two hundred and twenty-fourth.

wj

[FR Doc. 00-10004

Filed 4-19-00; 8:45 am]

Billing code 3195-01-P